DEPARTMENT OF AGRICULTURE

Agricultural Marketing Service

7 CFR Parts 1209 and 1210

[Doc. No. AMS-FV-07-0070; FV-07-704]

Mushroom Promotion, Research, and Consumer Information Order and Watermelon Research and Promotion Plan; Corrections

AGENCY: Agricultural Marketing Service, USDA.

ACTION: Correcting amendments.

SUMMARY: The Agricultural Marketing Service (AMS) is making corrections to the Code of Federal Regulations (7 CFR part 1209 and 7 CFR part 1210) to reflect the modification of Harmonized Tariff Schedule (HTS) codes for imported mushrooms and watermelons by U.S. Customs and Border Protection. This document updates the HTS codes for the mentioned imported commodities in 7 CFR 1209.51(e)(3) and 7 CFR 1210.515(b).

DATES: Effective date: July 30, 2007.

FOR FURTHER INFORMATION CONTACT: Daniel Rafael Manzoni, Research and Promotion Branch, Fruit and Vegetable Programs, Agricultural Marketing Service, USDA, Stop 0244, 1400 Independence Avenue, SW., Room 0634-S, Washington, DC 20250-0244, telephone (202) 720-9915, fax (202) 205-2800, or e-mail daniel.manzoni@usda.gov.

SUPPLEMENTARY INFORMATION: This document provides for corrections to 7 CFR part 1209 and 7 CFR part 1210 to reflect changes to the HTS codes for imported mushrooms and watermelons.

List of Subjects

7 CFR Part 1209

Administrative practice and procedure, Advertising, Consumer information, Marketing Agreements, Mushroom promotion, Reporting and recordkeeping requirements.

7 CFR Part 1210

Agricultural promotion, Agricultural research, Market development, Reporting and recordkeeping requirements, Watermelons.

Accordingly, 7 CFR Part 1209 and CFR Part 1210 are corrected by making the following correcting amendments:

PART 1209—MUSHROOM PROMOTION, RESEARCH, AND CONSUMER INFORMATION ORDER

1. The authority citation for 7 CFR part 1209 continues to read as follows:

Authority: 7 U.S.C. 6101-6112.

2. In § 1209.51, revise paragraph (e)(3) to read as follows:

§ 1209.51 Assessments.

* * * * *

(e) * * *

(3) The import assessment shall be uniformly applied to imported mushrooms that are identified by the numbers, 0709.51.01 and 0709.59 in the Harmonized Tariff Schedule of the United States or any other number used to identify fresh mushrooms.

* * * * *

PART 1210—WATERMELON PROMOTION, RESEARCH, AND PROMOTION PLAN

3. The authority citation for 7 CFR part 1210 continues to read as follows:

Authority: 7 U.S.C. 4901-4916

4. In § 1210.515 revise paragraph (b) to read as follows:

§ 1210.515 Levy of assessments.

* * * * *

(b) The import assessment shall be uniformly applied to imported watermelons that are identified by the numbers 0807.11.30 and 0807.11.40 in the Harmonized Tariff Scheudle of the United States of any other number used to identify fresh watermelons for consumption as human food. The U.S. Customs Service (USCS) will collect assessments on such watermelons at the time of entry and will forward such assessment as per the agreement between USCS and USDA. Any importer or agent who is exempt from payment of assessments may submit the Board adequate proof of the volume handled by such importer for the exemption to be granted.

* * * * *

Dated: July 23, 2007.
Lloyd C. Day,
Administrator, Agricultural Marketing Service.

[FR Doc. E7-14615 Filed 7-27-07; 8:45 am]

BILLING CODE 3410-02-P